FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011961-015.

Title: The Maritime Credit Agreement.

Parties: Alianca Navegacao e Logistica Ltda. & Cia.; A.P. Moller-Maersk A/S trading under the name of Maersk Line; China Shipping Container Lines Co., Ltd.; CMA CGM S.A.; Companhia Libra de Navegacao; Compania Libra de Navegacion Uruguay S.A.; Compania Sud Americana de Vapores, S.A.; COSCO Container Lines Company Limited; Dole Ocean Cargo Express; Hamburg-Süd; Hanjin Shipping Co., Ltd.; Independent Container Line Ltd.; Kawasaki Kisen Kaisha, Ltd.; Nippon Yusen Kaisha; Norasia Container Lines Limited; United Arab Shipping Company (S.A.G.); Wallenius Wilhelmsen Logistics AS; Zim Integrated Shipping Services, Ltd.

Filing Party: Wayne R. Rohde, Esq.; Cozen O'Connor; 1627 I Street NW., Suite 1100; Washington, DC 20006.

Synopsis: The amendment removes Hyundai Merchant Marine Co., Ltd. as a party to the Agreement.

Agreement No.: 012037-006.

Title: Maersk Line/CMA CGM Transatlantic Slot Exchange Agreement.

Parties: A.P. Moeller-Maersk A/S trading under the name of Maersk Line; and CMA CGM S.A.

Filing Party: Wayne R. Rohde, Esq.; Cozen O'Connor; 1627 I Street NW., Suite 1100; Washington, DC 20006-4007.

Synopsis: The amendment converts the agreement from a space charter agreement to a slot exchange agreement and makes changes necessary to reflect the bi-lateral nature of the exchange. The amendment also adds the U.S. Gulf Coast to and deletes Panama from the geographic scope of the agreement. Finally, the amendment adds an expiration date to the agreement and restates the agreement.

Agreement No.: 012193-001.

Title: Siem Car Carriers AS/Compania Sud Americana de Vapores S.A. Space Charter Agreement.

Parties: Siem Car Carriers AS and Compania Sud Americana de Vapores S.A.

Filing Party: Ashley W. Craig Esq.; Venable LLP; 575 Seventh Street NW., Washington, DC 20004.

Synopsis: The agreement revises the name of Siem Car Carriers Pacific AS to Siem Car Carriers AS.

Agreement No.: 012269.

Title: APL/HMM Temporary Slot Equipment Repositioning Agreement.

Parties: American Presidents Lines, Ltd. and Hyundai Merchant Marine Co. Ltd.

Filing Party: Eric. C. Jeffrey, Esq. and Lindsey M. Nelson; Nixon Peabody LLP; 401 9th Street NW., Suite 900; Washington, DC 20004.

Synopsis: The agreement authorizes APL to charter space to HMM for the repositioning of empty containers on an “as needed/as available” basis in the trade between Southern California and Mexico.

Agreement No.: 012270.

Title: APL/HMM/MOL USEC/Latin America Vessel Sharing Agreement.

Parties: American Presidents Lines, Ltd.; Hyundai Merchant Marine Co. Ltd.; and Mitsui O.S.K. Lines, Ltd.

Filing Party: Eric. C. Jeffrey, Esq. and Lindsey M. Nelson; Nixon Peabody LLP; 401 9th Street NW., Suite 900; Washington, DC 20004.

Synopsis: The agreement authorizes APL, HMM, and MOL to operate a joint string between the U.S. East Coast, on the one hand, and Chile, Peru, Colombia, and Panama, on the other hand.

Agreement No.: 012271.

Title: MSC/CMA CGM North West European Continent—US East Coast Service Space Charter Agreement.

Parties: MSC Mediterranean Shipping Company S.A. and CMA CGM S.A.

Filing Party: Wayne R. Rohde, Esq.; Cozen O'Connor; 1627 I Street NW., Suite 1100; Washington, DC 20006.

Synopsis: The agreement would authorize MSC to charter space to CMA in the trade between the North European Continent and the U.S. East Coast. The parties have requested expedited review.

Agreement No.: 012272.

Title: MSC/Zim Amazon Service Vessel Sharing Agreement.

Parties: MSC Mediterranean Shipping Company S.A. and Zim Integrated Shipping Services, Ltd.

Filing Party: Wayne R. Rohde, Esq.; Cozen O'Connor; 1627 I Street NW., Suite 1100; Washington, DC 20006.

Synopsis: The agreement would authorize the parties to share vessels in the trade between the U.S. East and Gulf Coasts, on the one hand, and Mexico, Panama, Jamaica, the Republic of Trinidad and Tobago, and Brazil, on the other hand.

Agreement No.: 012273.

Title: MSC/CMA CGM USEC-WCSA Space Charter Agreement.

Parties: MSC Mediterranean Shipping Company S.A. and CMA CGM S.A.

Filing Party: Wayne R. Rohde, Esq.; Cozen O'Connor; 1627 I Street NW., Suite 1100; Washington, DC 20006.

Synopsis: The agreement authorizes MSC to charter space to CMA in the trade between the U.S. East Coast, on the one hand, and Panama, Colombia (Pacific Coast only), Ecuador, Peru, and Chile.

Dated: May 2, 2014.
By Order of the Federal Maritime Commission.
Karen V. Gregory,
Secretary.

[FR Doc. 2014-10493 Filed 5-7-14; 8:45 am]

BILLING CODE 6730-01-P